NATIONAL SCIENCE FOUNDATION

Agency Information Collection Activities: Comment Request; Survey of Doctorate Recipients

AGENCY: National Science Foundation.

ACTION: Notice.

SUMMARY: The National Science Foundation (NSF) is announcing plans to renew this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by April 6, 2021 to be assured consideration. Comments received after that date will be considered to the extent practicable. Send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title of Collection: 2021 Survey of Doctorate Recipients.

OMB Control Number: 3145-0020.

Expiration Date of Current Approval: August 31, 2022.

Type of Request: Intent to seek approval to extend an information collection for three years.

Abstract: Established within the NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

NCSES is the primary sponsor of the Survey of Doctorate Recipients (SDR); the National Institutes of Health (NIH) serves as a co-sponsor. The SDR has been conducted biennially since 1973 and is a longitudinal survey. The 2021 SDR will consist of a sample of individuals under 76 years of age who have earned a research doctoral degree in a science, engineering, or health (SEH) field from a U.S. academic institution. The purpose of this panel survey is to collect data to provide national estimates on the doctoral science and engineering workforce and changes in their employment, education, and demographic characteristics. NCSES uses these data to prepare essential congressionally mandated reports (explained below). Government agencies and academic researchers use SDR data and publications to make planning decisions regarding science and engineering research, training, and employment opportunities. Employers also use the SDR to understand trends in employment sectors, industry types, and salary. Students who want to learn about the relationship between graduate education and careers often obtain valuable information from the SDR. Data and publications from the SDR are available to the public on the NCSES website: https://www.nsf.gov/statistics/srvydoctoratework/.

The SDR will collect data by web survey, mail questionnaire, and computer-assisted telephone interviews beginning in July 2021. The survey will be collected in conformance with the Confidential Information Protection and Statistical Efficiency Act of 2002 and the individual's response to the survey is voluntary. NCSES will ensure that all information collected will be kept strictly confidential and will be used only for statistical purposes.

Use of the Information: NCSES uses the information from the SDR to prepare two congressionally mandated reports: Women, Minorities, and Persons With Disabilities in Science and Engineering and Science and Engineering Indicators. NCSES publishes statistics from the SDR in many reports, but primarily in the biennial series, Characteristics of Scientists and Engineers with U.S. Doctorates. As with prior SDR data collections, a cross-sectional public release file of collected data, designed to protect respondent confidentiality, will be made available to researchers on the NCSES website: https://ncsesdata.nsf.gov/datadownload/.

Expected Respondents: The U.S. Office of Management and Budget (OMB) previously directed that NCSES enhance and expand the sample to measure employment outcomes by the fine field of degree taxonomy used in the Survey of Earned Doctorates. NCSES initiated this change in the 2015 cycle and maintained it in each subsequent cycle. For the 2021 SDR, a statistical sample of approximately 131,000 individuals with U.S. earned doctorates in science, engineering, or health will be contacted. As with prior SDR data collection cycles, the sample consists of all eligible cases from the previous cycle (116,000), as well as a sample of 10,000 new doctoral graduates. In addition, the sample includes 5,000 cases that will be part of a non-production bridge panel designed to quantify the potential impact of question wording modifications on key survey estimates. For 2021, the new graduate sample received their doctorate between July 2017 and June 2019. Across the full sample, approximately 116,760 individuals will reside in the U.S. and 14,240 will reside abroad.

Estimate of Burden: NCSES expects the overall 2021 SDR response rate to be approximately 70 percent. The amount of time to complete the questionnaire may vary depending on an individual's circumstances; however, based on 2019 SDR completion times, NCSES estimates an average completion time of approximately 21 minutes. NCSES estimates that the average annual burden for the 2021 survey cycle over the course of the three-year OMB clearance period will be no more than 10,699 hours [(131,000 individuals × 70% response × 21 minutes)/3 years/60 minutes].

Comments: Comments are invited on (a) whether the proposed collection of information is necessary for the proper performance of the functions of NCSES, including whether the information shall have practical utility; (b) the accuracy of NCSES's estimate of the burden of the proposed collection of information; (c) ways to enhance the quality, use, and clarity of the information on respondents, including through the use of automated collection techniques or other forms of information technology; and (d) ways to minimize the burden of the collection of information on those who are to respond, including through the use of appropriate automated, electronic, mechanical, or other technological collection techniques or other forms of information technology.

Dated: February 2, 2021.
Suzanne H. Plimpton,
Reports Clearance Officer, National Science Foundation.

[FR Doc. 2021-02447 Filed 2-4-21; 8:45 am]

BILLING CODE 7555-01-P